DEPARTMENT OF ENERGY

Federal Energy Regulatory Commission

[Docket No. CP06-397-000]

Transcontinental Gas Pipe Line Corporation; Notice of Abandonment

June 22, 2006.

Take notice that on June 21, 2006, Transcontinental Gas Pipe Line Corporation (Transco), P.O. Box 1396, Houston, Texas, 77251, filed an application under section 7(b) of the Natural Gas Act to abandon the firm transportation service Transco provides to South Carolina Pipeline Corporation (SCPC) and to amend Transco's Rate Schedule GSS certificate to effectuate a transfer of the GSS service entitlement held by SCPC to South Carolina Electric and Gas Company and Patriots Energy Group.

This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659.

Any questions concerning this request may be directed to Transco's contact person for this proceeding: Ingrid Germany, Staff Regulatory Analyst, Certificates and Tariffs, P.O. Box 1396, Houston, Texas, 77251; Phone: (713) 215-4015.

Transco seeks these authorizations at the request of SCPC and requests that the necessary authorizations be granted contingent upon and coincident with the proposed commencement of operation by Carolina Gas Transmission Corporation (Carolina Gas) as an interstate natural gas pipeline pursuant to any certificate and other authorizations granted by the Commission in an order approving the proposed restructuring of SCPC in Docket Nos. CP06-71, CP06-72 and CP06-73. The above restructuring proposal by Carolina Gas and SCPC is currently pending before the Commission in the dockets listed.

Any person desiring to intervene or to protest this filing must file in accordance with Rules 211 and 214 of the Commission's Rules of Practice and Procedure (18 CFR 385.211 and 385.214). Protests will be considered by the Commission in determining the appropriate action to be taken, but will not serve to make the protestants parties to the proceeding. Any person wishing to become a party must file a notice of intervention or a motion to intervene, as appropriate. Such notices, motions, or protests must be filed on or before the comment date. Anyone filing a motion to intervene or to protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

Comment Date: 5 p.m. Eastern Time on July 11, 2006.

Magalie R. Salas,
Secretary.

[FR Doc. E6-10171 Filed 6-27-06; 8:45 am]

BILLING CODE 6717-01-P